DEPARTMENT OF DEFENSE

Department of the Army, Corps of Engineers

Notice of Intent To Prepare a Draft Integrated Feasibility Report and Environmental Impact Statement for the Charleston Peninsula Coastal Flood Risk Management Study, Charleston County, South Carolina

AGENCY: Department of the Army, U.S. Army Corps of Engineers, Department of Defense (DoD).

ACTION: Notice of intent to prepare an Environmental Impact Statement.

SUMMARY: Pursuant to the requirements of the National Environmental Policy Act (NEPA) of 1969, as implemented by the Council on Environmental Quality Regulations, the U.S. Army Corps of Engineers (USACE), Charleston District, announces its intent to conduct public scoping and solicit public comments to gather information to prepare a draft Integrated Feasibility Report and Environmental Impact Statement (IFR/EIS). In April 2020, USACE released a draft Integrated Feasibility Report/Environmental Assessment (IFR/EA) with a draft mitigated Finding of No Significant Impacts (FONSI) for the Charleston Peninsula Coastal Flood Risk Management Study. After further agency analysis, review of comments received on the Draft IFR/EA, and continued refinement of the study, USACE concluded that an IFR/EIS with a Record of Decision (ROD) would fulfill NEPA compliance for the study. Comments received during the draft IFR/EA public comment period will be considered as part of the scoping process for the IFR/EIS, and do not need be resubmitted.

DATES: USACE requests comments concerning the scope of the alternatives and identification of relevant information, studies, and analyses. All comments must be received by April 22, 2021. The draft IFR/EIS is scheduled to be released for a minimum 45-day public review in late summer of 2021. The final IFR/EIS is scheduled to be released in the summer of 2022. The ROD will be signed no sooner than 30 days after the release of the IFR/EIS.

ADDRESSES: Send written comments to U.S. Army Corps of Engineers Charleston District, ATTN: Planning and Environmental Branch, 69A Hagood Avenue, Charleston, SC 29403. Send comments via email to Chs-Peninsula-Study@usace.army.mil. Submit comments online at the website: www.sac.usace.army.mil/charlestonpeninsulastudy.

FOR FURTHER INFORMATION CONTACT: Nancy Parrish, U.S. Army Corps of Engineers, 69A Hagood Avenue, Charleston, SC 29403, (843) 329-8050, or Chs-Peninsula-Study@usace.army.mil.

SUPPLEMENTARY INFORMATION: USACE is issuing this notice pursuant to section 102(2)(c) of the National Environmental Policy Act of 1969 (NEPA), as amended, 42 U.S.C. 4321 et seq.; and, the Council on Environmental Quality's (CEQ) regulations for implementing the procedural provisions of NEPA, 43 CFR parts 1500 through 1508. USACE is exercising its discretion to employ the 1978 CEQ NEPA regulations to this ongoing NEPA process pursuant to CEQ's Update to the Regulations Implementing the Procedural Provisions of the National Environmental Policy Act, Final Rule, 85 FR 43304, at 43339-43340 (July 16, 2020).

Background: In April 2020, USACE released a draft IFR/EA with a draft mitigated FONSI for the Charleston Peninsula Coastal Flood Risk Management Study. After further agency analysis, review of comments received on the draft IFR/EA, and continued refinement of the study, USACE concluded that NEPA compliance for the study should instead be completed by transitioning to an EIS with a ROD. Portions of the draft EA which remain pertinent and current will be integrated into the draft IFR/EIS, as appropriate. The IFR/EIS culminating in a ROD will enable the agency to develop a more comprehensive and detailed analysis of the study alternatives, cultural, visual, and natural resource impacts (among others), and mitigation proposals, as well as provide enhanced and additional opportunity for resource agency and public input to the process.

Purpose and Need for the Proposed Action: The Charleston Peninsula, South Carolina, is a highly urbanized, relatively flat, low-lying coastal community. It is the historic core and urban center of the City of Charleston. The low elevation and tidal connections to the Charleston Harbor, and Ashley and Cooper Rivers, put the Charleston Peninsula at particular risk of flooding from coastal storms and render it more vulnerable to sea level rise and climate change. The purpose of this proposed action is to reduce risk to human health and safety and reduce economic damages resulting from coastal storm surge inundation on the Charleston Peninsula.

Preliminary Proposed Action and Alternatives: As described in the draft IFR/EA, multiple types of management measures (including structural, nonstructural, and natural or nature-based) were identified to achieve study objectives, take advantage of identified opportunities, and avoid constraints. Management measures were subjected to an initial evaluation assessment and combined into the initial range of alternatives. These were screened against the study's objectives and the four evaluation criteria of the Economic and Environmental Principles and Guidelines for Water and Land Related Resources Implementation Studies, resulting in two action alternatives, in addition to the No Action Alternative. Alternative 2 consists of construction of a storm surge wall along the perimeter or nearshore of the peninsula, and nonstructural measures in select areas of the peninsula. Alternative 3 included the measures in Alternative 2 as well as an additional structural measure, the wave attenuator. Since the public release of the draft IFR/EA, Alternative 3 was further refined using modeling and analysis to reduce uncertainty associated with the wave attenuator. This analysis showed that the wave attenuator does not produce additional (incremental) inundation reduction benefits beyond the measures in Alternative 2. Therefore, Alternative 3 is not being carried forward into the final array of alternatives for the IFR/EIS. The final array is expected to include the No Action Alternative and an optimized Alternative 2, now known as the proposed action.

Brief Summary of Expected Impacts: Under this proposed action, the storm surge wall would be strategically aligned to avoid and minimize impacts to existing wetland habitat and cultural resources (substantial avoidance and minimization of wetlands has already taken place as part of the refinement of the proposed action following release of the draft IFR/EA). The wall would be strategically located to allow for continued operation of all ports, marinas, and the Coast Guard Station. The wall would tie into high ground as appropriate, including the existing Battery Wall. Nonstructural measures would be applied in areas of the peninsula where it is not feasible to construct the storm surge wall. In addition to the storm surge wall and associated access and flow gates, pump stations could be necessary to alleviate interior flooding induced by the wall. Where possible, designs would be modified to adhere to the visual aesthetic of the city.

The draft IFR/EIS will update and expand upon the effects analyzed in the draft IFR/EA which included, but were not limited to, positive and negative impacts to the cultural resources and historic properties, wetlands, visual aesthetics, aquatic and terrestrial resources, water quality, geology, air quality and noise, coastal hydrodynamics, hydrology and hydraulics, recreation, transportation, utilities, socioeconomics, and environmental justice.

Anticipated Permits, Authorizations, Consultations, or Coordination: USACE anticipates that the following will be required for this proposed action:

• Fish and Wildlife Coordination Act Report (already initiated).

• Consultation under Section 106 and Section 110(f) of the National Historic Preservation Act (already initiated).

• Consultations under Magnuson-Stevens Fishery Conservation and Management Act, Endangered Species Act, and Marine Mammal Protection Act.

• Clean Water Act: Section 401 Water Quality Certification, Section 404(b)1 analysis.

• Coastal Zone Management Act consistency determination.

Public Scoping Process: During the development of the draft IFR/EA, USACE engaged Federal, State, and local agencies, stakeholders, and the public through various meetings and the NEPA public comment period. On January 31, 2019, a project information meeting was held where the public was informed on the results of the first two planning iterations and input was solicited both in person and via an online form. USACE also solicited public comments on the draft IFR/EA during the public review period, April 20-June 20, 2020. Comments relevant to scoping that were received in response to the draft IFR/EA public comment period will be considered as part of the scoping process for the IFR/EIS, and do not need to be resubmitted. However, all are welcome to submit to USACE updated, additional, or superseding comments relevant to scoping in response to this NOI.

Information regarding the upcoming public scoping meeting, including date and time, is published on the study's website at: www.sac.usace.army.mil/charlestonpeninsulastudy.

Request for Identification of Potential Alternatives, Information, and Analyses Relevant to the Proposed Action: USACE requests assistance with identifying any new potential alternatives to the Proposed Action to be considered. Complete submittals of proposed alternatives would include the purpose of the suggested alternative. USACE also requests assistance with identifying any new potential impacts of the Proposed Action, identifying the activity and the potential impact that should be analyzed. Information interested parties possess which would assist in the analysis of resources issues is also appreciated. As noted above, USACE will consider input received on the draft IFR/EA pertinent to the scoping of potential alternatives and impacts. This information will be used in the determination of the scope of issues for analysis in the EIS.

Special Assistance for Public Meeting. The scoping meeting will be virtual. People needing special assistance to attend and/or participate in the meeting should contact U.S. Army Corps of Engineers Charleston District, ATTN: Planning and Environmental Branch, 69A Hagood Avenue, Charleston, SC 29403 or via email to Chs-Peninsula-Study@usace.army.mil. To allow sufficient time to process special requests, please contact no later than one week before the public meeting.

Public Disclosure Statement. If you wish to comment, you may use the online form or mail or email your comments as indicated under the ADDRESSES section of this notice. Before including your address, phone number, email address, or any other personal identifying information in your comment, you should be aware that your entire comment—including your personal identifying information—may be made available to the public at any time. While you can request in your comment for us to withhold your personal identifying information from public review, we cannot guarantee that we will be able to do so.

Jason E. Kelly,
Project Management Professional.

[FR Doc. 2021-05929 Filed 3-22-21; 8:45 am]

BILLING CODE 3720-58-P